DEPARTMENT OF ENERGY

Federal Energy Regulatory Commission

Combined Notice of Filings #1

Take notice that the Commission received the following electric corporate filings:

Docket Numbers: EC13-45-000.

Applicants: Long Island Solar Farm, LLC.

Description: Application of Long Island Solar Farm, LLC for FPA Section 203 approval.

Filed Date: 11/19/12.

Accession Number: 20121119-5185.

Comments Due: 5 p.m. ET 12/10/12.

Take notice that the Commission received the following electric rate filings:

Docket Numbers: ER12-1835-001.

Applicants: Midwest Independent Transmission System Operator, Inc.

Description: SA 2079 ITC Midwest-Oak Glen Compliance to be effective 5/24/2012.

Filed Date: 11/19/12.

Accession Number: 20121119-5105.

Comments Due: 5 p.m. ET 12/10/12.

Docket Numbers: ER12-2518-001.

Applicants: PJM Interconnection, L.L.C.

Description: Compliance filing per 10/22/2012 Order in ER12-2518 to be effective 7/25/2012.

Filed Date: 11/19/12.

Accession Number: 20121119-5119.

Comments Due: 5 p.m. ET 12/10/12.

Docket Numbers: ER12-2702-001.

Applicants: Southwest Power Pool, Inc.

Description: 2198R3 Substitute Kansas Power Pool NITSA NOA to be effective 9/1/2012.

Filed Date: 11/19/12.

Accession Number: 20121119-5176.

Comments Due: 5 p.m. ET 12/10/12.

Docket Numbers: ER13-353-001.

Applicants: Alcoa Power Generating Inc.

Description: Executed APGI-SMT Interconnection Agreement (ER13-353) to be effective 11/15/2012.

Filed Date: 11/19/12.

Accession Number: 20121119-5157.

Comments Due: 5 p.m. ET 12/10/12.

Docket Numbers: ER13-355-001.

Applicants: Alcoa Power Generating Inc.

Description: Executed APGI-TVA Interconnection Agreement (ER13-355) to be effective 11/15/2012.

Filed Date: 11/19/12.

Accession Number: 20121119-5180.

Comments Due: 5 p.m. ET 12/10/12.

Docket Numbers: ER13-419-000.

Applicants: PJM Interconnection, L.L.C.

Description: Original Service Agreement No. 3420; Queue No. X3-054 to be effective 10/25/2012.

Filed Date: 11/19/12.

Accession Number: 20121119-5160.

Comments Due: 5 p.m. ET 12/10/12.

Docket Numbers: ER13-420-000.

Applicants: Midwest Independent Transmission System Operator, Inc.

Description: 11-19-12 Monthly Regulation Ratio Filing to be effective 2/1/2013.

Filed Date: 11/19/12.

Accession Number: 20121119-5164.

Comments Due: 5 p.m. ET 12/10/12.

Docket Numbers: ER13-421-000.

Applicants: PJM Interconnection, L.L.C.

Description: Original Service Agreement No. 3439; Queue No. Y1-027 to be effective 10/30/2012.

Filed Date: 11/19/12.

Accession Number: 20121119-5165.

Comments Due: 5 p.m. ET 12/10/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 20, 2012.
Nathaniel J. Davis, Sr.,
Deputy Secretary.

[FR Doc. 2012-28963 Filed 11-29-12; 8:45 am]

BILLING CODE 6717-01-P